DEPARTMENT OF LABOR

Employment and Training Administration

Notice of Determinations Regarding Eligibility To Apply for Trade Adjustment Assistance

In accordance with the Section 223 (19 U.S.C. 2273) of the Trade Act of 1974 (19 U.S.C. 2271, et seq.) (“Act”), as amended, the Department of Labor herein presents summaries of determinations regarding eligibility to apply for trade adjustment assistance under Chapter 2 of the Act (“TAA”) for workers by (TA-W) number issued during the period of October 23, 2017 through November 30, 2017. (This Notice primarily follows the language of the Trade Act. In some places however, changes such as the inclusion of subheadings, a reorganization of language, or “and,” “or,” or other words are added for clarification.)

Section 222(a)—Workers of a Primary Firm

In order for an affirmative determination to be made for workers of a primary firm and a certification issued regarding eligibility to apply for TAA, the group eligibility requirements under Section 222(a) of the Act (19 U.S.C. 2272(a)) must be met, as follows:

(1) The first criterion (set forth in Section 222(a)(1) of the Act, 19 U.S.C. 2272(a)(1)) is that a significant number or proportion of the workers in such workers' firm (or “such firm”) have become totally or partially separated, or are threatened to become totally or partially separated;

AND (2(A) or 2(B) below)

(2) The second criterion (set forth in Section 222(a)(2) of the Act, 19 U.S.C. 2272(a)(2)) may be satisfied by either (A) the Increased Imports Path, or (B) the Shift in Production or Services to a Foreign Country Path/Acquisition of Articles or Services from a Foreign Country Path, as follows:

(A) Increased Imports Path

(i) the sales or production, or both, of such firm, have decreased absolutely;

AND (ii and iii below)

(ii) (I) imports of articles or services like or directly competitive with articles produced or services supplied by such firm have increased OR

(II) (aa) imports of articles like or directly competitive with articles into which one or more component parts produced by such firm are directly incorporated, have increased; OR

(II) (bb) imports of articles like or directly competitive with articles which are produced directly using the services supplied by such firm, have increased; OR

(III) imports of articles directly incorporating one or more component parts produced outside the United States that are like or directly competitive with imports of articles incorporating one or more component parts produced by such firm have increased;

AND

(iii) the increase in imports described in clause (ii) contributed importantly to such workers' separation or threat of separation and to the decline in the sales or production of such firm; OR

(B) Shift in Production or Services to a Foreign Country Path OR Acquisition of Articles or Services From a Foreign Country Path

(i)(I)there has been a shift by such workers' firm to a foreign country in the production of articles or the supply of services like or directly competitive with articles which are produced or services which are supplied by such firm; OR

(II)such workers' firm has acquired from a foreign country articles or services that are like or directly competitive with articles which are produced or services which are supplied by such firm;

AND

(ii) the shift described in clause (i)(I) or the acquisition of articles or services described in clause (i)(II) contributed importantly to such workers' separation or threat of separation.

Section 222(b)—Adversely Affected Secondary Workers

In order for an affirmative determination to be made for adversely affected secondary workers of a firm and a certification issued regarding eligibility to apply for TAA, the group eligibility requirements of Section 222(b) of the Act (19 U.S.C. 2272(b)) must be met, as follows:

(1) a significant number or proportion of the workers in the workers' firm or an appropriate subdivision of the firm have become totally or partially separated, or are threatened to become totally or partially separated;

AND

(2) the workers' firm is a supplier or downstream producer to a firm that employed a group of workers who received a certification of eligibility under Section 222(a) of the Act (19 U.S.C. 2272(a)), and such supply or production is related to the article or service that was the basis for such certification (as defined in subsection 222(c)(3) and (4) of the Act (19 U.S.C. 2272(c)(3) and (4));

AND

(3) either—

(A) the workers' firm is a supplier and the component parts it supplied to the firm described in paragraph (2) accounted for at least 20 percent of the production or sales of the workers' firm;

OR

(B) a loss of business by the workers' firm with the firm described in paragraph (2) contributed importantly to the workers' separation or threat of separation determined under paragraph (1).

Section 222(e)—Firms Identified by the International Trade Commission

In order for an affirmative determination to be made for adversely affected workers in firms identified by the International Trade Commission and a certification issued regarding eligibility to apply for TAA, the group eligibility requirements of Section 222(e) of the Act (19 U.S.C. 2272(e))must be met, by following criteria (1), (2), and (3) as follows:

(1) The workers' firm is publicly identified by name by the International Trade Commission as a member of a domestic industry in an investigation resulting in—

(A) an affirmative determination of serious injury or threat thereof under section 202(b)(1) of the Act (19 U.S.C. 2252(b)(1));

OR

(B) an affirmative determination of market disruption or threat thereof under section 421(b)(1)of the Act (19 U.S.C. 2436(b)(1)); OR

(C) an affirmative final determination of material injury or threat thereof under section 705(b)(1)(A) or 735(b)(1)(A) of the Tariff Act of 1930 (19 U.S.C. 1671d(b)(1)(A) and 1673d(b)(1)(A));

AND

(2) the petition is filed during the 1-year period beginning on the date on which—

(A) a summary of the report submitted to the President by the International Trade Commission under section 202(f)(1) of the Trade Act (19 U.S.C. 2252(f)(1)) with respect to the affirmative determination described in paragraph (1)(A) is published in the Federal Register under section 202(f)(3) (19 U.S.C. 2252(f)(3)); OR

(B) notice of an affirmative determination described in subparagraph (B) or (C) of paragraph (1) is published in the Federal Register;

AND

(3) the workers have become totally or partially separated from the workers' firm within—

(A) the 1-year period described in paragraph (2); OR

(B) not withstanding section 223(b) of the Act (19 U.S.C. 2273(b)), the 1-year period preceding the 1-year period described in paragraph (2).

Affirmative Determinations for Trade Adjustment Assistance

The following certifications have been issued. The date following the company name and location of each determination references the impact date for all workers of such determination.

The following certifications have been issued. The requirements of Section 222(a)(2)(A) (Increased Imports Path) of the Trade Act have been met.

TA-W No. | Subject firm | Location | Impact date
85,355 | Chevron Mining, Inc., Chevron Corporation, Stu Blattner, Inc. (SBI) | Questa, NM | June 4, 2013.
91,525 | Teknetix Inc., Nolans Services, LLC | Parkersburg, WV | February 26, 2015.
92,359 | MacFasteners, River Valley Tooling Division, TriMas | Paris, AR | October 24, 2015.
92,546 | Kellogg Seelyville Bakery, Snacks, Kellogg Company, Kelly Services, Nexus, Omni GOI | Terre Haute, IN | January 10, 2016.
92,746 | Lucerne Textiles, Vitality Staffing, Active Staffing | New York, NY | March 20, 2016.
92,746A | Lucerne Textiles, Vitality Staffing, Active Staffing | Jersey City, NJ | March 20, 2016.
92,793 | Classtex Knitting Mill | Orwigsburg, PA | April 5, 2016.
92,906 | Baker Hughes Inc., North America Offshore Division | Houston, TX | May 22, 2016.
92,924 | Owner Revolution Inc., Advanced Services, Inc | Atlantic, IA | May 31, 2016.
92,934 | Data Listing Service, LLC, The Connection | Olean, NY | June 5, 2016.
92,954 | Resolute Forest Products-Catawba Mill, PPM Contractors | Catawba, SC | June 14, 2016.
92,954A | Resolute Forest Products-Jonesville Chip Mill | Jonesville, SC | June 14, 2016.
93,104 | General Motors (GM), Lake Orion Assembly, Development Dimensions International | Lake Orion, MI | January 22, 2017.
93,169 | Putnam Company, Inc | Walworth, WI | September 22, 2016.
93,236 | RotaDyne Molded Products, Rotation Dynamics Corporation | Chicago, IL | October 17, 2016.

The following certifications have been issued. The requirements of Section 222(a)(2)(B) (Shift in Production or Services to a Foreign Country Path or Acquisition of Articles or Services from a Foreign Country Path) of the Trade Act have been met.

TA-W No. | Subject firm | Location | Impact date
92,604 | First American Professional Real Estate | Irvine, CA | February 2, 2016
92,710 | Sutherland Global Services, Inc., Sutherland Global Holdings, Inc | Rochester, NY | March 8, 2016.
92,727 | Stragtegic Products and Services, LLC | Camarillo, CA | March 14, 2016.
92,786 | Nevamar Company, LLC, Panolam Industrial International Inc., Manpower | Oshkosh, WI | April 3, 2016.
92,842 | Industrial Tube Company LLC, ITT Aerospace Controls, ITT Industries Holdings, Adecco, Chipton Ross, etc | Perris, CA | April 25, 2016.
92,932 | L. Perrigo Company, Procurement, 515 Eastern Avenue, Perrigo Company PLC, Manpower | Allegan, MI | June 5, 2016.
92,932A | L. Perrigo Company, Procurement, 1251 Lincoln Road, Perrigo Company PLC, Manpower | Allegan, MI | June 5, 2016.
92,963 | International Automotive Components (IAC) Group North America, Malone Staffing Solutions, Resource MFG | Springfield, TN | June 21, 2016.
92,967 | NICE Systems, Inc., NICE Limited | Richardson, TX | June 22, 2016.
92,983 | Autodesk, Inc., Accelon, Adroit Resources, Ascent Services Group, etc | Lake Oswego, OR | June 30, 2016.
93,011 | Government Employees Insurance Company (GEICO), Berkshire Hathaway, Information Technology, etc | Chevy Chase, MD | July 13, 2016.
93,017 | Hearthmark, LLC, Newell Brands, Inc., Kelly Services | Cloquet, MN | July 14, 2016.
93,042 | Custom Control Sensors, LLC, CCS Holdings, Inc., Aerotek Commercial Staffing, Crossroads Staffing | Chatsworth, CA | July 27, 2016.
93,061 | STAR Envirotech | Huntington Beach, CA | August 4, 2016.
93,063 | JAE Oregon, Inc., JAE Electronics, Inc., Express Employment Professionals, Aerotek | Tualatin, OR | August 4, 2016.
93,065 | Oracle America, Inc., Oracle Corporation, Volt Workforce Solutions, 3295 NW 211th Terrace | Hillsboro, OR | August 4, 2016.
93,065A | Oracle America, Inc., Oracle Corporation, Volt Workforce Solutions, 3380 NW 215th Avenue | Hillsboro, OR | August 4, 2016.
93,072 | National Oilwell Varco Process & Flow Technologies, Inc., National Oilwell Varco, L.P., Abundant Solutions, Employee Solutions, etc | Claremore, OK | August 9, 2016.
93,074 | Philips Medical Systems (Cleveland) Inc., Randstad-Sourceright | Aurora, IL | August 11, 2016.
93,081 | Casamba, LLC, Revenue Cycle Services (RCS), Randstad | Rome, GA | August 17, 2016.
93,096 | Asurion Services, Inc., N.E.W. Customer Service Companies, LCC, Asurion Insurance Services, etc | Klamath Falls, OR | August 25, 2016.
93,097 | Avery Dennison, Retain Branding and Information Solutions (RBIS), Zero Chaos | Greensboro, NC | September 3, 2017.
93,098 | Benchmark Electronics, Innovative Way, Davis Companies | Nashua, NH | August 28, 2016.
93,100 | Mercury Instruments, LLC, Honeywell International, Inc | Melbourne, FL | August 28, 2016.
93,124 | Darian Group Incorporated | New York, NY | September 5, 2016.
93,127 | Flowserve Corporation, Finance Division, 1480 Valley Center Parkway | Bethlehem, PA | September 8, 2016.
93,127A | Flowserve Corporation, Finance Division, 567 Rocky Glen Road | Moosic, PA | September 8, 2016.
93,137 | Experian, Experian Health Division | Springfield, IL | September 13, 2016.
93,137A | Experian, Experian Health Division | Schaumburg, IL | September 13, 2016.
93,145 | Nelson Global Products, Inc., EHDTech, American Technical Associates, Inc., TechUSA, RandstadUSA, etc | Clinton, TN | September 14, 2016.
93,163 | Johnson Controls, Inc., Building Technologies & Solutions, Johnson Controls International PLC | Milwaukee, WI | September 21, 2016.
93,164 | Lululemon Athletica Lab NYC, lululemon USA Inc | New York, NY | September 15, 2016.
93,172 | General Foam Plastics Corp | Norfolk, VA | September 26, 2016.
93,172A | General Foam Plastics Corp., Holden Temporaries, Inc., U.S. Security Associates | Tarboro, NC | September 26, 2016.
93,172B | General Foam Plastics Corp., DM Dickinson Personnel Services | El Paso, TX | September 26, 2016.
93,173 | Itron, Inc., Gas Regulator Department, Crown Services, Inc | Owenton, KY | September 14, 2016.
93,174 | Total System Services, Inc., (TSYS), Information Technology Division | Boise, ID | September 8, 2016.
93,177 | Sutherland Global Services, Inc | Rochester, NY | September 27, 2016.
93,177A | Sutherland Global Services, Inc | Pittsford, NY | September 27, 2016.
93,193 | Sony Corporation of America, Global Infrastructure Shared Services (GISS), SAP Support Division | Park Ridge, NJ | September 29, 2016.
93,195 | American Home Patient, Inc., Cash Application Department, Lincare Inc | Philipsburg, PA | September 22, 2016.
93,196 | Hearth and Home Technologies, HNI Corporation, Aerotek Staffing | Colville, WA | September 28, 2016.
93,198 | International Business Machines (IBM), Global Technical Services, GSAM Relationship and Problem Management | Seattle, WA | September 25, 2016.
93,205 | Kelly Aviation Center, L.P., Lockheed Martin Engine Investment, Kelly Aviation Center Management, etc | San Antonio, TX | October 4, 2016.
93,206 | Powerex, Inc., General Electric & Mitsubishi Electric | Youngwood, PA | November 13, 2017.
93,207 | Sohnen Enterprises, Inc., AJL Staffing | Santa Fe Springs, CA | October 4, 2016.
93,209 | Fiserv Solutions, LLC, Fiserv, Inc., ITI of Nebraska, Inc., Randstad SourceRight | Walnut, CA | October 5, 2016.
93,210 | Augusta Sportswear, Inc | Grovetown, GA | October 5, 2016.
93,212 | The Northwestern Mutual Life Insurance Company, IT, Adecco, Apex, Codeworks, Cognizant, Infosys, Genesis, Kforce, Manpower | Franklin, WI | October 5, 2016.
93,218 | Xerox Corporation, Field Commission Specialists | Rochester, NY | October 6, 2016.
93,221 | MD Electronics Corporation, Express Employment Professionals, Adecco | Jamestown, NY | October 10, 2016.
93,224 | Superior Industries International Arkansas, LLC, Superior Industries International Inc | Rogers, AR | October 10, 2016.
93,227 | Umicore Thin Film Products USA, Inc., Umicore USA, Monroe Staffing, MicroTech Staffing, Aerotek Staffing, etc | Providence, RI | October 11, 2016.
93,230 | BP Products North America Inc., GBS Americas Division, Collabera, Acro, Insight, Nextsource, Procom, etc | Naperville, IL | October 13, 2016.
93,231 | Bush Industries, Inc., Mason Drive Facility, Express Employment Professionals, Kelly Services, etc | Jamestown, NY | November 14, 2017.
93,231A | Career Concepts, Bush Industries, Inc., Mason Drive Facility | Jamestown, NY | October 13, 2016.
93,232 | JD Norman Industries, Express Employment Professionals | Brooklyn, OH | October 13, 2016.
93,233 | Commercial Sewing, Inc., Missouri Plant Division, Penmac | Phillipsburg, MO | October 17, 2016.
93,240 | Amesbury Group, Inc. (dba AmesburyTruth), Foam-Tite, Tyman plc, Key Partners | Amesbury, MA | October 19, 2016.
93,241 | Ferrara Candy Company, Creston Plant, Elite Staffing, ASI | Creston, IA | October 19, 2016.
93,243 | LEGO Systems, Inc., Legal, Corporate IT-Marketing Management & Development, Americas-Brand, etc | Enfield, CT | October 20, 2016.
93,246 | Matrix Absence Management, Inc., Delphi Financial Group, Inc., All About People | Hawthorne, NY | October 20, 2016.
93,249 | Vesuvius USA, Flow Control, Resource Manufacturing, Express Employment Professionals, etc | Charleston, IL | October 24, 2016.
93,250 | Daymon Worldwide, Inc., Adecco Agency, Arnold Group | Hutchinson, KS | October 25, 2016.
93,251 | SKF Sealing Solutions, SKF USA Inc | Seneca, KS | October 25, 2016.
93,254 | Arrow International Inc., Teleflex Incorporated, Office Team, Aerotek | Reading, PA | December 18, 2017.
93,254A | Piper Companies, Arrow International Inc., Teleflex Incorporated | Reading, PA | October 27, 2016.
93,257 | Georg Jensen, Inc., Georg Jensen A/S | New York, NY | October 25, 2016.
93,260 | Ocean Steel Corporation, OSCO Construction Group | Conklin, NY | October 26, 2016.
93,261 | UPM Blandin Paper Company, Paper Machine 5 (PM5), UPM-Kymmene Investment, Personnel Dynamics, Spherion | Grand Rapids, MN | October 26, 2016.
93,266 | Wells Fargo Virtual Channels (WFVC) Contact Center, Wells Fargo Bank, NA, Wells Fargo & Company | Bethlehem, PA | October 31, 2016.
93,267 | Caterpillar Inc., dba Dyersburg Transmission Facility, Advanced Components Manufacturing, Manpower, Manpower Inc., AECom, etc | Dyersburg, TN | November 1, 2016.
93,271 | Airtex Products, LP, Airtex Industries, LLC, UCI International, Inc | Fairfield, IL | November 4, 2017.
93,272 | Behr-Hella Thermocontrol, Inc., MAHLE (BEHR) GmbH/Hella GmbH, Express Employment Professionals | Wixom, MI | November 2, 2016.
93,273 | Henry Technologies, Inc., Hendricks Holdings Company, Express Employment Professionals, Manpower | Chatham, IL | November 2, 2016.
93,275 | Willis Lease Finance Corporation, Aerotek Recruiting & Staff, Robert Half International, etc | Novato, CA | November 2, 2016.
93,276 | Avery Dennison, Retail Branding and Information Solutions (RBIS) Division | Dallas, TX | November 2, 2016.
93,286 | M&G Polymers USA, LLC, M&G Chemicals, SA, Professional Services of America | Apple Grove, WV | November 3, 2016.
93,298 | ABB Inc., Power Grids, ABB Holdings, Pontoon, Manpower, Industrial Staffing Services | St. Louis, MO | November 9, 2016.
93,299 | Advanced Health Partners, Inc | New Windsor, NY | November 9, 2016.
93,301 | Carlisle Fluid Technologies, Inc., Carlisle Companies, Inc., ProResources, ManPower, PeopleLink | Angola, IN | November 10, 2016.
93,313 | MilliporeSigma, Merck KGaA, Randstad Corporate Services | Bellefonte, PA | November 15, 2016.

The following certifications have been issued. The requirements of Section 222(b) (supplier to a firm whose workers are certified eligible to apply for TAA) of the Trade Act have been met.

TA-W No. | Subject firm | Location | Impact date
91,264 | Shenango Incorporated, DTE Energy Services, Steel City and Safety Supply, MK Technologies, etc | Pittsburgh, PA | December 28, 2014.
92,162 | SunCoke Technology & Development LLC, Capital Projects Group, SunCoke Energy, Inc. Haverhill Coke Company LLC | Franklin Furnace, OH | August 30, 2015.
92,835 | Leadec Corp., VIUS Services Corp., Voith Industrial Services | Warren, OH | April 21, 2016.
92,926 | Android Industries—Detroit, Android Industries, LLC, Focus: Hope Companies, Inc., Nesco Resource | Detroit, MI | June 1, 2016.
93,226 | Lear Corporation, Seating Division | Rochester Hills, MI | May 1, 2017.

The following certifications have been issued. The requirements of Section 222(b) (downstream producer to a firm whose workers are certified eligible to apply for TAA) of the Trade Act have been met.

TA-W No. | Subject firm | Location | Impact date
93,217 | AMIKA LLC d/b/a US Industrial Services | Pulaski, TN | October 6, 2016.

The following certifications have been issued. The requirements of Section 222(e) (firms identified by the International Trade Commission) of the Trade Act have been met.

TA-W No. | Subject firm | Location | Impact date
93,178 | AK Steel Corporation, Butler Works, AK Steel Holding Corporation, Unlimited Staffing, Inc | Lyndora, PA | September 29, 2015.
93,179 | AK Steel Corporation, Middletown Works, AK Steel Holding Corporation, Belcan, Phoenix Services | Middletown, OH | September 29, 2015.
93,180 | ArcelorMittal Cleveland LLC, ArcelorMittal USA LLC | Cleveland, OH | September 29, 2015.
93,182 | Top Gun Investment Corp, NLMK Pennsylvania, LLC, Novolipetsk Steel | Farrell, PA | September 29, 2015.
93,182A | Sharon Coating, LLC, Novolipetsk Steel | Sharon, PA | September 29, 2015.
93,184 | United States Steel Corporation, Irvin Plant | West Mifflin, PA | March 13, 2017.

Negative Determinations for Worker Adjustment Assistance

In the following cases, the investigation revealed that the eligibility criteria for TAA have not been met for the reasons specified.

The investigation revealed that the criteria under paragraphs(a)(2)(A) (increased imports), (a)(2)(B) (shift in production or services to a foreign country or acquisition of articles or services from a foreign country), (b)(2) (supplier to a firm whose workers are certified eligible to apply for TAA or downstream producer to a firm whose workers are certified eligible to apply for TAA), and (e) (International Trade Commission) of section 222 have not been met.

TA-W No. | Subject firm | Location | Impact date
91,444 | Johnson Matthey Process Technologies, Inc., Kelly Services, Aerotek | Savannah, GA. |
92,040 | Willamette Egg Farms, MG Waldbaum Company, Willamette Egg Farms LLC, Direct Labor, Inc | Canby, OR. |
92,537 | General Motors Components Holdings, LLC (GMCH), Development Dimensions International (DDI) | Kokomo, IN. |
92,674 | Rock of Ages Corporation, Polycor Inc., Barre Quarry Division | Graniteville, VT. |
92,779 | 3M Company, Homecare, Pride One, Manpower Group, Experis, Lab Support | Elyria, OH. |
93,015 | Vertiv Group Corporation, Liebert North America, PE Vertiv Holdings, Tailored Management, Dawson | Columbus, OH. |
93,043 | Delft Blue LLC, Ecolait | New York Mills, NY. |
93,159 | Benny's Inc., Benny's of RI, Inc., Benny's of Mass, Inc., Benny's of Conn., Inc., etc | Esmond, RI. |
93,181 | Bank of America, Mortgage and Vehicle Servicing Operation, Bank of America, N.A | Simi Valley, CA. |
93,281 | Remy Power Products, LLC, Remy Acquisition LLC | Edmond, OK. |

Determinations Terminating Investigations of Petitions for Trade Adjustment Assistance

After notice of the petitions was published in the Federal Register and on the Department's website, as required by Section 221 of the Act (19 U.S.C. 2271), the Department initiated investigations of these petitions.

The following determinations terminating investigations were issued because the petitioner has requested that the petition be withdrawn.

TA-W No. | Subject firm | Location | Impact date
92,554 | Skiva Graphics Screen | Carlsbad, CA. |
92,698 | Actronix, Inc. | Flippin, AR. |

The following determinations terminating investigations were issued because the worker group on whose behalf the petition was filed is covered under an existing certification.

TA-W No. | Subject firm | Location | Impact date
92,940 | Nielsen, A.C. Nielsen Company, LLC | Fond Du Lac, WI. |
93,079 | Apex Systems, LLC, Travelport, LP | Kansas City, MO. |
93,083 | SKJ Facilities Management | Big Flats, NY. |
93,162 | Opusing, LLC | Bloomfield, CT. |
93,171 | Convergys Customer Management Group, Directv Customer Service Support, AT&T Retention/Loyalty, etc | Tamarac, FL. |
93,215 | NSi Industries LLC, Adecco, Direct Staffing Solutions, Career Connections | Mount Vernon, NY. |
93,219 | Dura Automotive Systems, LLC, Furst Staffing, ManPower Group, Atwood Automotive, Inc | Stockton, IL. |
93,229 | CenturyLink, Embarq | Carlisle, PA. |
93,239 | Kalmar Rough Terrain Center, LLC, Cargotec, Southwest Business Corporation (SWBC) | Cibolo, TX. |

The following determinations terminating investigations were issued because the petitioning group of workers is covered by an earlier petition that is the subject of an ongoing investigation for which a determination has not yet been issued.

TA-W No. | Subject firm | Location | Impact date
93,161 | Industrial Tube Company LLC, ITT Aerospace Controls LLC, Adecco, Chipton Ross, Ronin Staffing, etc | Perris, CA. |
93,176 | Microsoft Corporation, Production Division | Wilsonville, OR. |

I hereby certify that the aforementioned determinations were issued during the period of October 23, 2017 through November 30,2017. These determinations are available on the Department's Website https://www.doleta.gov/tradeact/taa/taa_search_form.cfm under the searchable listing determinations or by calling the Office of Trade Adjustment Assistance toll free at 888-365-6822.

Signed at Washington, DC, this 7th day of December, 2017.
Hope D. Kinglock,
Certifying Officer, Office of Trade Adjustment Assistance.

[FR Doc. 2017-27531 Filed 12-20-17; 8:45 am]

BILLING CODE 4510-FN-P